DEPARTMENT OF COMMERCE

National Oceanic and Atmospheric Administration

Notice of Availability of the Draft Environmental Assessment (Draft EA) for the Urban Stream Research Center Proposed To Be Constructed in Unincorporated Warrenville, IL and Request for Comments

AGENCY: National Oceanic and Atmospheric Administration (NOAA), Commerce.

ACTION: Notice of Availability of the Draft Environmental Assessment (Draft EA) for the Urban Stream Research Center proposed to be constructed in Unincorporated Warrenville, Illinois and request for comments.

SUMMARY: The National Oceanic and Atmospheric Administration's (NOAA's) Office of Response and Restoration is announcing that a document entitled “Draft Environmental Assessment, Urban Stream Research Center” is available for public review and comment. In this document, that has been prepared under the requirements of the National Environmental Policy Act (42 USC 4321 et seq.), NOAA presents the proposal to construct an Urban Stream Research Center along the West Branch of the DuPage River in an unincorporated area of Warrenville, Illinois. In the Draft EA, NOAA considers and discloses any potential significant impacts to the quality of the human environment that may arise from the proposed project. The construction of the Urban Stream Research Center is one component ecological enhancement of a portion of the West Branch DuPage River, proposed to be funded in accordance with NOAA Grant Award No. FNA07NOS4630002, DuPage River Restoration. The purpose of this Notice is to inform the public of the availability of the Draft EA and seek public comment on the proposed project.

FOR FURTHER INFORMATION CONTACT: For further information contact Brendan Bray at 301-713-2989, ext. 122, by fax at 301-713-4389, or e-mail at Brendan.Bray@noaa.gov. Requests for copies of the Draft Environmental Assessment should be sent to Brendan Bray of NOAA, 1305 East West Highway, #10126, Silver Spring, MD 20910 or the document can be viewed online at http://www.dupageco.orglswm. Written comments on the plan should be sent to Brendan Bray of NOAA at the address listed above. Comments on the Draft Environmental Assessment must be submitted in writing on or before 30 days after publication of this notice.

SUPPLEMENTARY INFORMATION: The overall goal of this project is to build a facility that will allow the Forest Preserve District of DuPage County to meet its objectives to: 1. Augment the population densities and increase the diversity of freshwater mussel and non-game fish species that are in decline or extirpated in the West Branch of the DuPage River,

2. Evaluate the success and impacts of ongoing habitat restoration and remediation projects along the river, thereby benefiting fresh water mussel species, other wildlife, habitat areas, and public communities along the West Branch of the DuPage River,

3. Improve the success of urban aquatic habitat restoration and enhancement along the West Branch of the DuPage River, and

4. Provide educational opportunities for the public and other groups.

The grant recipient, DuPage County Stormwater Management Division, proposes to construct a research and education center on the publicly owned Roy C. Blackwell Forest Preserve. The preferred alternative, Urban Stream Research Center—New Constructed Facility, was created through input from the Forest Preserve District of DuPage County, the public, and NOAA.

Currently there are no facilities within Illinois to support common freshwater mussel propagation and augmentation. The Urban Stream Research Center will propagate and augment the population densities and increase the diversity of native freshwater mussel species and non-game fish species. Additionally, the Center will promote and encourage interdisciplinary research between universities and local, state, and federal conservation agencies (e.g., Forest Preserve Distric of DuPage County, Natural History Survey, Illinois Department of Natural Resources, U.S. Fish and Wildlife Service, U.S. Geological Survey).

The proposed project would not result in significant adverse environmental impacts. Short-term, temporary, and localized construction-related impacts to air quality and increases in noise from the use of construction equipment are anticipated. However, over the long-term, the Center would benefit fish and wildlife, help to enhance the area's natural resources, and provide opportunities for research and educational programs.

Dated: January 5, 2010.
David Westerholm,
Director, Office of Response and Restoration.

[FR Doc. 2010-563 Filed 1-13-10; 8:45 am]

BILLING CODE 3S10-JE-P